DEPARTMENT OF COMMERCE

National Institute of Standards and Technology

Public Meeting To Gather Comments and Suggestions Related to the Scope of the Pending NIST Building and Fire Safety Investigation of the World Trade Center Disaster

AGENCY: National Institute of Standards and Technology, Commerce.

ACTION: Notice of public meeting.

SUMMARY: The National Institute of Standards and Technology (NIST) of the United States Department of Commerce has scheduled a public meeting to be held on June 24, 2002, to gather comments and suggestions related to the scope of its pending building and fire safety investigation of the World Trade Center disaster. A draft of the proposed NIST investigation plan with details on its scope will be made available June 10, 2002 on the Web site http://wtc.nist.gov. A review of the recently completed report “World Trade Center Building Performance Study: Data Collection, Preliminary Observations, and Recommendations” sponsored by the Federal Emergency Management Agency (FEMA) and led by the American Society of Civil Engineers may be useful in formulating comments and suggestions. This report (FEMA 403, May 2002) may be found at http://www.fema.gov/library/wtcstudy.htm. Individuals and representatives of organizations who would like to offer comments and suggestions related to the scope of the pending NIST investigation are invited to request a place on the agenda. The total number of speakers and organizations, and the time available for each, will be determined by the number of requests, but the time is likely to be 5 to 10 minutes each. Speakers who wish to expand upon their oral statements, those who had wished to speak but could not be accommodated on the agenda, and those who are unable to attend in person are invited to submit written statements and supporting material to the WTC Technical Information Repository preferably before June 30, 2002. This meeting is being re-scheduled from April 22, 2002.

DATES: The meeting will be held on June 24, 2002, from 8:00 AM to 4:00 PM.

ADDRESSES: The meeting will be held at the Marriott New York East Side Hotel, 525 Lexington Avenue, New York, NY 10017. Telephone number is: (212) 755-4000.

FOR FURTHER INFORMATION CONTACT: Stephen Cauffman, (301) 975-6051 or by e-mail at stephen.cauffman@nist.gov. Written statements and supporting material should be submitted to the WTC Technical Information Repository, Building and Fire Research Laboratory, National Institute of Standards and Technology, MS 8610, Gaithersburg, MD 20899-8610 or electronically by e-mail to WTC@NIST.gov or by Fax to (301) 975-6122.

SUPPLEMENTARY INFORMATION: President Bush has proposed to Congress that NIST investigate the building construction, the materials used, and the technical conditions that combined to cause the World Trade Center disaster following the airplane impacts. The scope of the NIST investigation will address the following primary objectives, which are to:

• Determine the probable technical causes of the collapse of the World Trade Center buildings (the Twin Towers and WTC 7);

• Determine the factors that led to the injuries and fatalities, including all technical aspects of fire protection, response, evacuation, and occupant behavior and emergency response;

• Determine the procedures and practices that were used in the design, construction, operation, and maintenance of the World Trade Center buildings; and

• Identify building and fire codes, standards, and practices that warrant revision.

The investigation is to be part of a broader NIST response plan to the WTC disaster, which also is to include research and development and information dissemination and technical assistance.

To request an opportunity to speak, NIST must receive the following information via e-mail (WTC@NIST.gov) or FAX ((301)-975-6122) no later than 5:00 PM on June 17, 2002:

• Name and contact information (including FAX, phone and/or e-mail) of individual who will be speaking.

• Name and complete address of organization(s) speaker represents.

• A 150-200 word summary of key points to be made by the speaker relating to the scope of the pending NIST investigation.

Those who are selected to speak will be contacted by 12 noon on June 19, 2002, using the FAX, phone or e-mail address provided, and informed of the decision and the maximum amount of time allotted to each speaker. Speakers will be selected based on the following criteria: (1) Relevance of the 150-200 word summary to the primary objectives of the NIST investigation listed previously, (2) order in which requests are received, (3) balancing interests and perspectives, and (4) avoidance of duplication in comments and suggestions.

Speakers who wish to expand upon their oral statements, those who wish to speak but cannot be accommodated on the agenda, and those who are unable to attend in person are invited to submit written statements and supporting material to the WTC Technical Information Repository, Building and Fire Research Laboratory, National Institute of Standards and Technology, MS 8610, Gaithersburg, MD 20899-8610 or electronically by e-mail to WTC@NIST.gov or by Fax to (301) 975-6122.

Statements made at the meeting and/or submitted to NIST may be recorded and transcribed and made available to the public at a later date. The meeting will be Web cast and linked to the NIST home page, http://www.nist.gov/. Details will be available on that Web site before the meeting.

Dated: May 31, 2002.
Arden L. Bement, Jr.,
Director.

[FR Doc. 02-14082 Filed 6-4-02; 8:45 am]

BILLING CODE 3510-13-P